NATIONAL COMMISSION ON LIBRARIES AND INFORMATION SCIENCE

Sunshine Act Meeting

AGENCY: U.S. National Commission on Libraries and Information Science.

ACTION: Notice of meeting.

SUMMARY: The U.S. National Commission on Libraries and Information Science is holding an open business meeting to discuss developments affecting the Commission budget and the appropriate activities for library and information services with regard to homeland security.

DATE AND TIME: NCLIS Business Meeting—October 26, 2001, 8:30 a.m. to 12 p.m.

ADDRESSES: Conference Room, NCLIS Office, 1110 Vermont Avenue, NW., Washington, DC 20005.

STATUS: Open meeting.

FOR FURTHER INFORMATION CONTACT: Rosalie Vlach, Director, Legislative and Public Affairs, U.S. National Commission on Libraries and Information Science, 1110 Vermont Avenue, NW., Suite 820, Washington, DC 20005, e-mail rvlach@nclis.gov, fax 202-606-9203 or telephone 202-606-9200.

SUPPLEMENTARY INFORMATION: The meeting is open to the public, subject to space availability. To make special arrangements for physically challenged persons, contact Rosalie Vlach, Director, Legislative and Public Affairs, 1110 Vermont Avenue, NW., Suite 820, Washington, DC 20005, e-mail rvlach@nclis.gov, fax 202-606-9203 or telephone 202-606-9200.

Dated: October 17, 2001.
Robert S. Willard,
NCLIS Executive Director.

[FR Doc. 01-26535 Filed 10-17-01; 12:23 pm]

BILLING CODE 7527-$$-P